NATIONAL SCIENCE FOUNDATION

National Science Board; Sunshine Act Meeting

Date and Time: August 14, 2002: 10 a.m.-10:30 a.m., Closed Session; August 15, 2002: 1 p.m.-3 p.m., Closed Session; August 15, 2002: 3 p.m.-4:30 p.m., Open Session.

Place: The National Science Foundation, Room 1235, 4201 Wilson Boulevard, Arlington, VA 22230, http://www.nsf.gov/nsb.

Status: Part of this meeting will be closed to the public, Part of this meeting will be open to the public.

Matters to be considered:

Wednesday, August 14, 2002

Closed Session (10 a.m.-10:30 a.m.)

—Closed Session Minutes, May, 2002.

—Election for one member of the Executive Committee.

—NSB Member Proposal.

Thursday, August 15, 2002

Closed Session (1 p.m.-3 p.m.)

—Awards and Agreements.

—NSF FY 04 Budget.

Open Session (3 p.m.-4:30 p.m.)

—Open Session Minutes, May, 2002.

—Closed Session Items for October, 2002.

—Chair's Report.

—Director's Report.

—Committee Reports.

—Other Business.

Gerard Glaser,
Executive Officer.

[FR Doc. 02-19938 Filed 8-2-02; 11:32 am]

BILLING CODE 7555-01-M